DEPARTMENT OF TRANSPORTATION

Office of the Secretary

Aviation Proceedings, Agreements Filed the Week Ending March 11, 2005

The following Agreements were filed with the Department of Transportation under the provisions of 49 U.S.C. sections 412 and 414. Answers may be filed within 21 days after the filing of the application.

Docket Number: OST-2005-20580.

Date Filed: March 7, 2005.

Parties: Members of the International Air Transport Association.

Subject:

PTC2 ME-AFR 0129 dated 8 March 2005, Resolution 002L—Special Amending Resolution between Middle East and Africa.

Intended effective date: 15 April 2005.

Docket Number: OST-2005-20624.

Date Filed: March 9, 2005.

Parties: Members of the International Air Transport Association.

Subject:

PTC12 NMS-ME 0221 dated 4 March 2005, TC12 North Atlantic-Middle East (except USA-Jordan) Resolutions.

PTC12 NMS-ME 0222 dated 4 March 2005, TC12 North Atlantic USA-Jordan Resolutions.

PTC12 NMS-ME 0223 dated 4 March 2005, TC12 Mid Atlantic-Middle East Resolutions.

PTC12 NMS-ME 0224 dated 4 March 2005, TC12 South Atlantic-Middle East Resolutions r1-r47.

PTC12 NMS-ME 0225 dated 8 March 2005.

PTC12 NMS-ME Fares 0125 dated 11 March 2005, TC12 North Atlantic-Middle East Fares.

PTC12 NMS-ME Fares 0126 dated 11 March 2005, TC12 Mid Atlantic-Middle East Fares.

PTC12 NMS-ME Fares 0127 dated 11 March 2005, TC12 South Atlantic-Middle East Fares.

Intended effective date: 1 April 2005.

Docket Number: OST-2005-20644.

Date Filed: March 10, 2005.

Parties: Members of the International Air Transport Association.

Subject:

PTC12 USA-EUR Fares 0096 dated 25 January 2005, Resolution 015h-USA Add-Ons between USA and UK.

Intended effective date: 1 April 2005.

Renee V. Wright,
Acting Program Manager, Docket Operations, Alternate Federal Register Liaison.

[FR Doc. 05-5853 Filed 3-23-05; 8:45 am]

BILLING CODE 4910-62-P